DEPARTMENT OF THE TREASURY

Agency Information Collection Activities; Submission for OMB Review; Comment Request; Multiple Fiscal Service Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before March 30, 2026 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service (BFS)

1. Title: Notice of Reclamation.

OMB Control Number: 1530-0003.

Type of Request: Extension without change of a currently approved collection.

Description: A program agency authorizes Treasury to recover payments that have been issued after the death of the beneficiary. FS Form 133 is used to notify the financial institution. If the financial institution does not respond to the FS-133, a debit request (Form 135) is sent to the Federal Reserve Bank.

Form: FS Form 133.

Affected Public: Financial institutions.

Estimated Number of Respondents: 26,895.

Frequency of Response: 8.3 per year.

Estimated Total Number of Annual Responses: 223,128.

Estimated Time per Response: 8 minutes.

Estimated Total Annual Burden Hours: 29,750.

2. Title: Accounts Receivable Forms for Debt Repayment.

OMB Control Number: 1530-0075.

Type of Request: Extension without change of a currently approved collection.

Description: The principal purpose for gathering this information is to evaluate a debtor's ability to pay their debt and to obtain the debtor's ACH payment information so recurring electronic payments can be set up to pay their debt.

Form: FS Form 122, FS Form 123.

Affected Public: Individuals and households.

Estimated Number of Respondents: 60.

Frequency of Response: Once.

Estimated Total Number of Annual Responses: 60.

Estimated Time per Response: 15 minutes (Form 122), 45 minutes (Form 123).

Estimated Total Annual Burden Hours: 35.

Authority: 44 U.S.C. 3501 et seq.

Spencer W. Clark,
Treasury PRA Clearance Officer.

[FR Doc. 2026-03987 Filed 2-26-26; 8:45 am]

BILLING CODE 4810-AS-P